DEPARTMENT OF HEALTH AND HUMAN SERVICES

Administration for Children and Families

Proposed Information Collection Activity; Comment Request

Proposed Projects

Title: Survey of Early Head Start Programs.

OMB No.: New Collection.

Description: The Head Start Reauthorization Act of 1994 established a special initiative creating funding for services for families with infants and toddlers. In response, the Administration on Children, Youth and Families (ACYF) within the Administration for Children and Families (ACF) developed the Early Head Start program. Early Head Start programs are designed to produce outcomes in four domains: (1) Child development, (2) family development, (3) staff development, and (4) community development. As a requirement of the Reauthorization Act, ACYF funded a rigorous randomized trial to study the effectiveness of Early Head Start programs, sampling from 17 programs funded in the initial years. That research found positive effects of the program overall in a variety of areas, as well as effects for different program types and levels of implementation, and among study participants with different characteristics.

The aim of the current research is to obtain a national picture of Early Head Start. This initiative will begin a process of describing how the Early Head Start initiative has grown over time, how programs are currently implementing services, and who is being served. The study will be conducted between September 2004 and May 2005.

The data will consist of a survey of all Early Head Start programs in October 2004 and site visits to a selected sample of 25 programs in early 2005. All data collection instruments have been designed to minimize the burden on respondents by minimizing the time required to respond. Participation in the study is voluntary.

The results of the research will be used by the Head Start Bureau and ACF to gain a better understanding of changes in program processes and services over time, to identify areas of strength and weakness in order to target training and technical assistance or further research efforts, and finally, to provide a broader context for lessons learned from the impact study.

Respondents: Early Head Start directors, Early Head Start coordinators and specialists, teachers, home visitors, and parents of Early Head Start children.

Annual Burden Estimates

Estimated Response Burden for Respondents to the Survey of Early Head Start Programs

Instrument | Number of respondents | Number of responses per respondent | Average burden hours per response | Annual burden hours
Survey of Programs (2004) | ᵃ 595 | 1 | 3.0 | 1,785.0
Site Visit Protocol (2005):
Director Protocol | 25 | 1 | 3.0 | 75.0
Coordinator/Specialist Protocol: ᵇ
Community Partnership | 25 | 1 | 1.0 | 25.0
Disabilities | 25 | 1 | 1.0 | 25.0
Early Childhood | 25 | 1 | 1.0 | 25.0
Family Partnership | 25 | 1 | 1.0 | 25.0
Home Visiting | 25 | 1 | 1.0 | 25.0
Teacher Protocol ᶜ | 125 | 1 | 1.5 | 187.5
Home Visitor Protocol ᶜ | 125 | 1 | 1.5 | 187.5
Parent Protocol ᶜ | 125 | 1 | 1.5 | 187.5
Total for Site Visits | 525 |  |  | 762.5
ᵃ Assumes 85 percent response rate for the survey.
ᵇ Not all programs will have staff in each position, therefore, burden estimates for some programs may be overstated.
ᶜ Assumes group interviews with up to five individuals per site. Assumes that all sites have both home visitors and teachers, although when that is not the case, the burden estimates will be overstated.

Estimated Total Annual Burden Hours: 2,547.5.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection. E-mail address: grjohnson@acf.hhs.gov.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 16, 2004.
Robert Sargis,
Reports Clearance Officer.

[FR Doc. 04-14169 Filed 6-22-04; 8:45 am]

BILLING CODE 4184-01-M